DEPARTMENT OF TRANSPORTATION

Federal Aviation Administration

14 CFR Part 39

[Docket No. 99-NE-31-AD; Amendment 39-13035; AD 2003-03-11]

RIN 2120-AA64

Airworthiness Directives; Air Cruisers Company Emergency Evacuation Slide/Rafts

AGENCY: Federal Aviation Administration, DOT.

ACTION: Final rule.

SUMMARY: This amendment adopts a new airworthiness directive (AD) that is applicable to a certain Air Cruisers Company Emergency Evacuation Slide/Raft System. This amendment requires a one-time unpacking and subsequent repacking of the slide/raft system, identified by serial numbers (SN's), and mandates repacking of all other slide/raft systems of the same design at the next required normal maintenance schedule of the slide/ raft system. This amendment is prompted by reports of separation of the lower aspirator during a number of deployments. The actions specified by this AD are intended to prevent failure of the slide/raft to properly inflate, which could impede the emergency evacuation of passengers in the event of an airplane emergency.

DATES: Effective March 7, 2003. The incorporation by reference of certain publications listed in the regulations is approved by the Director of the Federal Register as of March 7, 2003.

ADDRESSES: The service information referenced in this AD may be obtained from Air Cruisers Company, Technical Publications Department, P.O. Box 180, Belmar, NJ 07719-0180; telephone: (732) 681-3527, fax: (732) 280-8212. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Leung Lee, Aerospace Engineer, New York Aircraft Certification Office, FAA, Engine and Propeller Directorate, 10 Fifth Street, 3rd floor, Valley Stream, NY 11581-1200; telephone (516) 256-7509; fax (516) 568-2716.

SUPPLEMENTARY INFORMATION: A proposal to amend part 39 of the Federal Aviation Regulations (14 CFR part 39) to include an AD that is applicable to a certain Air Cruisers Company Emergency Evacuation Slide/Raft System was published in the Federal Register on November 9, 1999 (64 FR 61042). That action proposed to require a one-time unpacking and subsequent repacking of affected slide/raft systems identified by SN's in accordance with Air Cruisers Company Service Bulletin (SB) 777-107-25-06, dated February 19, 1999, and repacking of all other slide/raft systems of the same design in accordance with Air Cruisers Company SB 777-107-25-06, dated February 19, 1999 and the applicable Air Cruisers Company Folding Procedures P-12054 or P-12064, Revision E, dated October 14, 1998.

Comments

Interested persons have been afforded an opportunity to participate in the making of this amendment. Due consideration has been given to the comments received.

Revise the Number of Affected Slide/Rafts

Two commenters state that the proposal implies that the problem extends beyond the 93 affected slide/rafts that are listed by SN's in SB 777-107-25-06, dated February 19, 1999. In the proposed actions section, the proposal states that an unsafe condition has been identified that is likely to exist or develop on other emergency evacuation slide/raft systems of the same type design. The commenters disagree with this statement because at the time the problem was identified, a program was implemented to repack all slide/raft systems in inventory, leaving only those identified by SN's listed in the SB as affected.

The FAA disagrees. Because emergency evacuation slide/raft systems of this same design are suspect to potential failure due to the use of improper folding instructions, this AD must address all emergency evacuation slide/raft systems of this same type design, including those specifically identified in the Air Cruisers Company Service Bulletin 777-107-25-06.

Use One Compliance Time

Two commenters request a one-time repacking compliance time of within 18 months after the effective date of this AD for all slide/rafts, instead of the current proposed repacking within two months for slide/rafts identified by SN's, and repacking all other slide/rafts within 18 months after the effective date of this AD. This would make the associated risk consistent for all affected slide/rafts.

The FAA disagrees. The FAA position is that there is still a risk of potential separation of the lower aspirator in this emergency evacuation slide/raft system. In the event of an emergency evacuation, even one slide/raft malfunction may be extremely dangerous. Furthermore, because the Air Cruisers Company Service Bulletin 777-107-25-06, dated February 19, 1999 has been available for more than 18 months, the burden of this AD should be less on all involved. Therefore, the FAA made no changes to the rule with respect to this request.

One-Time Repacking With No Repetitive Repacking

Three commenters request that a one-time unpacking and subsequent repacking be done with no repetitive repacking procedure added to the regular maintenance of the airplane. Since the problem will be corrected with the one-time repacking, the need for repetitive repacking will be eliminated.

The FAA partially agrees. A one-time unpacking and subsequent repacking of the 93 slide/raft systems identified by SN's per this AD is all that is required for conformance to this AD. The requirement of this AD for “repetitive repacking” is for addressing all other slide/raft systems of the same design. These slide/raft systems are to be repacked at the next scheduled maintenance cycle within the compliance time of this AD in accordance with the applicable Air Cruisers Company Folding Procedures. The FAA will modify the wording “repetitive repacking” to read “repacking of all other slide/raft systems of the same design.”

Revision Level of the Applicable Folding Procedures

One commenter states that it is not appropriate to designate the folding procedure revision number since the procedure may be revised in the future. The commenter requests including “or latest as revised” to Folding Procedures P-12054 and P-12064, Revision E. Another commenter requests that the specific revision level of the applicable folding procedure not be listed at all.

The FAA partially agrees. Since the proposal was issued, the FAA has determined that Folding Procedures P-12054 and P-12064, Revision E and earlier, are insufficent and are not to be used to comply with this AD. Repacking must be done in accordance with the applicable Air Cruisers Company Folding Procedure P-12054 or P-12064, Revision F, dated March 12, 1999, or later FAA approved revision, for all emergency evacuation slide/raft systems of the same design. Therefore paragraphs (a) through (d) of the AD is reworded, stating to repack the slide/raft systems in accordance with the applicable Air Cruisers Company Folding Procedure P-12054 (for left-hand slide/rafts), Revision F, dated March 12, 1999, or later FAA approved revision, or Folding Procedure P-12064 (for right-hand slide/rafts), Revision F, dated March 12, 1999, or later FAA approved revision.

Limit the Applicability

One commenter requests removing the words “ but not limited to” from the proposed AD applicability paragraph. Otherwise, unaffected owners/operators will have to spend resources in determining that compliance is unnecessary.

The FAA disagrees. Although these emergency evacuation slide/raft systems are currently installed on Boeing 777-200 and -300 only, it is possible that these slide/raft systems could be installed on other airplanes. Therefore, the FAA made no changes to the rule with respect to this request.

Identify Only Basic Part Numbers

One commenter requests that the AD remove the dash numbers from part numbers identifying the slide/raft systems, and use only the basic, open-ended part numbers. Then for part number details, refer to the effectivity of the applicable Air Cruisers Service Bulletin.

The FAA disagrees. Open-ended slide/raft systems part numbers would cause any future part numbers to become falsely applicable to this AD. Therefore, the FAA made no changes to the rule with respect to this request.

Approval As-Written

One commenter approves the proposal as-written.

After careful review of the available data, including the comments noted above, the FAA has determined that air safety and the public interest require the adoption of the rule with the changes described previously. The FAA has determined that these changes will neither increase the economic burden on any operator nor increase the scope of the AD.

Economic Analysis

There are approximately 388 slide/raft systems of the affected design in the worldwide fleet. The FAA estimates that 74 slide/raft systems installed on airplanes of U.S. registry would be affected by this AD, that it would take approximately 5 work hours per slide/raft system to accomplish the repacking, and that the average labor rate is $60 per work hour. Based on these figures, the total cost of the AD on U.S. operators is estimated to be $22,200.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-03-11 Air Cruisers Company: Amendment 39-13035. Docket No. 99-NE-31-AD.

Applicability

This airworthiness directive (AD) is applicable to Air Cruisers Company Emergency Evacuation Slide/Raft System part numbers (P/N's) 62774-401, 62774-402, 62774-403, 62774-404, 62774-405, 62774-406, 62774-407 and 62774-408, with the affected slide/raft systems identified by the serial numbers (SN's) listed in the following Table 1:

Table 1.—Affected Slide/Raft SN's
0203 | 0207 | 0220 | 0234 | 0235 | 0239 | 0241 | 0245 | 0250 | 0255
0267 | 0277 | 0280 | 0302 | 0305 | 0306 | 0310 | 0312 | 0316 | 0318
0320 | 0330 | 0332 | 0333 | 0335 | 0339 | 0342 | 0343 | 0344 | 0345
0348 | 0349 | 0350 | 0351 | 0354 | 0355 | 0356 | 0358 | 0364 | 0365
0366 | 0368 | 0369 | 0372 | 0373 | 0374 | 0376 | 0378 | 0379 | 0380
0381 | 0384 | 0385 | 0388 | 0389 | 0390 | 0391 | 0392 | 0394 | 0395
0396 | 0397 | 0398 | 0399 | 0402 | 0403 | 0404 | 0406 | 0408 | 0409
0411 | 0413 | 0415 | 0417 | 0418 | 0419 | 0420 | 0421 | 0422 | 0423
0425 | 0426 | 0427 | 0428 | 0429 | 0430 | 0431 | 0433 | 0438 | 0443
0445 | 0455 | 0456 |  |  |  |  |  |  |

These Emergency Evacuation Slide/Raft Systems are installed on, but not limited to Boeing 777-200 and -300 series airplanes.

Note 1: This AD applies to each Emergency Evacuation Slide/Raft System identified in the preceding applicability provision, regardless of whether it has been modified, altered, or repaired. For Emergency Evacuation Slide/Raft Systems that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance

Compliance with this AD is required as indicated, unless already done.

To prevent failure of the emergency evacuation slide/raft to properly inflate, which could impede the emergency evacuation of passengers in the event of an airplane emergency, do the following:

Repacking

(a) For slide/raft systems identified by SN's as listed in Table 1 of this AD, do the following in accordance with Accomplishment Instructions described in Air Cruisers Company SB 777-107-25-06, dated February 19, 1999, and the applicable Air Cruisers Company Folding Procedure P-12054 (for left-hand slide/rafts), Revision F, dated March 12, 1999, or later FAA approved revision, or Folding Procedure P-12064 (for right-hand slide/rafts), Revision F, dated March 12, 1999, or later FAA approved revision:

(1) For slide/raft systems currently installed on airplanes, repack within 2 months after the effective date of this AD.

(2) For uninstalled slide/raft systems, repack before installation.

(b) Repack all slide/raft systems, excluding those identified in paragraph (a) of this AD, in accordance with the applicable Air Cruisers Company Folding Procedure P-12054 (for left-hand slide/rafts), Revision F, dated March 12, 1999, or later FAA approved revision, or Procedure P-12064 (for right-hand slide/rafts), Revision F, dated March 12, 1999, or later FAA approved revision, at the next required normal maintenance schedule of the slide/raft system, or no later than 18 months after the effective date of this AD.

(c) Emergency Evacuation Slide/Raft Systems which have already been repacked in accordance with the applicable Air Cruisers Company Folding Procedures P-12054 or P-12064, Revision F or later FAA approved revision, are considered in compliance to the requirements of paragraph (b) of this AD.

(d) All subsequent repacking of the Emergency Slide/Raft System during the normal scheduled maintenance must be performed in accordance with the applicable Air Cruisers Company Folding Procedures P-12054 or P-12064, Revision F or later FAA approved revision.

Alternative Methods of Compliance

(e) An alternative method of compliance or adjustment of the compliance time that provides an acceptable level of safety may be used if approved by the Manager, New York Aircraft Certification Office. Operators must submit their request through an appropriate FAA Principal Maintenance Inspector, who may add comments and then send it to the Manager, New York Aircraft Certification Office.

Note 2: Information concerning the existence of approved alternative methods of compliance with this airworthiness directive, if any, may be obtained from the New York Aircraft Certification Office.

Special Flight Permits

(f) Special flight permits may be issued in accordance with §§ 21.197 and 21.199 of the Federal Aviation Regulations (14 CFR 21.197 and 21.199) to operate the airplane to a location where the requirements of this AD can be done.

Documents That Have Been Incorporated by Reference

(g) The repacking must be done in accordance with the following Air Cruisers Company service bulletin (SB) and Folding Procedures (FP):

Document No. | Pages | Revision | Date
SB 777-107-25-06 Total pages: 3 | All | Original | February 19, 1999.
P-12054 Total pages: 158 | All | F | March 12, 1999.
P-12064 Total pages: 156 | All | F | March 12, 1999.

The incorporations by reference were approved by the Director of the Federal Register in accordance with 5 U.S.C. 552(a) and 1 CFR part 51. Copies may be obtained from Air Cruisers Company, Technical Publications Department, PO Box 180, Belmar, NJ 07719-0180; telephone: (732) 681-3527, fax: (732) 280-8212. Copies may be inspected by appointment at the FAA, New England Region, Office of the Regional Counsel, 12 New England Executive Park, Burlington, MA; or at the Office of the Federal Register, 800 North Capitol Street, NW., suite 700, Washington, DC.

Effective Date

(h) This amendment becomes effective on March 7, 2003.

Issued in Burlington, Massachusetts, on January 22, 2003.
Jay J. Pardee,
Manager, Engine and Propeller Directorate, Aircraft Certification Service.

[FR Doc. 03-1952 Filed 1-30-03; 8:45 am]

BILLING CODE 4910-13-P